DEPARTMENT OF HOMELAND SECURITY

Coast Guard

33 CFR Part 165

[CGD09-03-399]

RIN 1625-AA00

Safety Zones; Captain of the Port Detroit Zone

AGENCY: Coast Guard, DHS.

ACTION: Notice of implementation of regulation.

SUMMARY: The Coast Guard is implementing safety zones for annual fireworks displays in the Captain of the Port Detroit Zone during August 2003. This action is necessary to provide for the safety of life and property on navigable waters during these events. These zones will restrict vessel traffic from a portion of the Captain of the Port Detroit Zone.

DATES: Effective from 12:01 a.m. on August 1, 2003, to 11:59 p.m. on August 31, 2003.

FOR FURTHER INFORMATION CONTACT: Lieutenant Junior Grade Brandon Sullivan, U.S. Coast Guard Marine Safety Office Detroit, at (313) 568-9580.

SUPPLEMENTARY INFORMATION: The Coast Guard is implementing the permanent safety zones in 33 CFR 165.907 (a)(22) and (23) (66 FR 27868, May 21, 2001), for fireworks displays in the Captain of the Port Detroit Zone during August 2003. The following safety zones are in effect for fireworks displays occurring in the month of August 2003:

(1) Maritime Day Fireworks, Marine City, MI. This safety zone will be enforced on August 9, 2003, from 8 p.m. until 11:59 p.m.

(2) Venetian Festival Boat Parade & Fireworks, St. Clair Shores, MI. This safety zone will be enforced on August 9, 2003, from 7 p.m. until 11:59 p.m.

In order to ensure the safety of spectators and transiting vessels, these safety zones will be enforced for the duration of the events. In cases where shipping is affected, commercial vessels may request permission from the Captain of the Port Detroit to transit the safety zone. Approval will be made on a case-by case basis. Requests must be made in advance and approved by the Captain of the Port Detroit before transits will be authorized. The Captain of the Port Detroit may be contacted via U.S. Coast Guard Group Detroit on Channel 16, VHF-FM.

Dated: July 14, 2003.
S.K. Moon,
Lieutenant Commander, Coast Guard, Acting Captain of the Port Detroit.

[FR Doc. 03-18923 Filed 7-24-03; 8:45 am]

BILLING CODE 4910-15-P